GENERAL SERVICES ADMINISTRATION

Office of Communications, Cancellation of Standard Form by the Department of Treasury

AGENCY: Office of Communications, GSA.

ACTION: Notice.

SUMMARY: Because of low demand from the Federal Supply Service the Department of Treasury cancelled the following Standard Form:

SF 1035A, Public Voucher for Purchases and Services Other Than Personal (Memorandum).

DATES: Effective May 29, 2002.

FOR FURTHER INFORMATION CONTACT: Ms. Barbara Williams, General Services Administration, (202) 501-0581.

Dated: May 14, 2002.
Barbara M. Williams,
Deputy Standard and Optional Forms Management Officer, General Services Administration.

[FR Doc. 02-13283 Filed 5-28-02; 8:45 am]

BILLING CODE 6820-34-M